DEPARTMENT OF THE INTERIOR

National Park Service

Notice of Intent to Repatriate Cultural Items: San Diego Archaeological Center, San Diego, CA

AGENCY: National Park Service, Interior.

ACTION: Notice.

Notice is here given in accordance with the Native American Graves Protection and Repatriation Act (NAGPRA), 25 U.S.C. 3005, of the intent to repatriate cultural items in the possession of the San Diego Archaeological Center, San Diego, CA, that meet the definition of “sacred objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1978, a steatite sucking tube was removed from archeological site W-569 in San Diego County, CA, as part of an archeological excavation performed in compliance with the California Environmental Quality Act (CEQA). This site is located in the west part of San Diego County in the City of Oceanside, which is adjacent to Rancho Guajome. On June 29, 2007, the collection was accessioned by the San Diego Archaeological Center, and assessed for objects eligible for repatriation in accordance with NAGPRA.

The archeological site W-569 falls within traditional Luiseno territory, and the reporting archeologists determined it to be of the Late Holocene, Late Milling Period, which has been associated with the cultural antecedents of the Luiseno Nation in the region. Steatite sucking tubes are known to be used by the Luiseno in sacred rites.

In 1989, cultural items were removed from archeological site CA-SDI-11,068A in San Diego County, CA, as part of an archeological excavation performed in compliance with the California Environmental Quality Act (CEQA). This site is located in the northern part of San Diego County in the City of San Marcos, adjacent to Twin Oaks Valley. On May 10, 2006, the collection was accessioned by the San Diego Archaeological Center, and assessed for objects eligible for repatriation in accordance with NAGPRA. The cultural items are known to be used by the Luiseno in sacred rites and were removed from Luiseno traditional territory. The 66 sacred objects are 45 pieces of ochre, 1 piece of hematite, 2 quartz crystals, 3 tourmaline crystals, 10 effigy fragments, 4 ceramic pipe fragments, and 1 raptor talon.

The Luiseno Nation is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group.

Officials of the San Diego Archaeological Center have determined that, pursuant to 25 U.S.C. 3001 (3)(C), the 67 cultural items described above are specific ceremonial objects needed by traditional Native American religious leaders for the practice of traditional Native American religions by their present-day adherents. Officials of the San Diego Archaeological Center also have determined that, pursuant to 25 U.S.C. 3001 (2), there is a relationship of shared group identity that can be reasonably traced between the Luiseno Nation, which is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group.

Representatives of any other Indian tribe that believes itself to be culturally affiliated with the sacred objects should contact Cindy Stankowski, San Diego Archaeological Center, 16666 San Pasqual Valley Road, Escondido, CA 92027-7001, telephone (760) 291-0370, before November 6, 2008. Repatriation of the sacred objects to the Luiseno Nation, which is represented by the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; Twenty-Nine Palms Band of Luiseno Mission Indians of California; and San Luis Rey Band of Mission Indians, a non-federally recognized Indian group, may proceed after that date if no additional claimants come forward.

The San Diego Archaeological Center is responsible for notifying the La Jolla Band of Luiseno Mission Indians of the La Jolla Reservation, California; Pala Band of Luiseno Mission Indians of the Pala Reservation, California; Pauma Band of Luiseno Mission Indians of the Pauma & Yuima Reservation, California; Pechanga Band of Luiseno Mission Indians of the Pechanga Reservation, California; Rincon Band of Luiseno Mission Indians of the Rincon Reservation, California; Soboba Band of Luiseno Indians, California; and Twenty-Nine Palms Band of Luiseno Mission Indians of California; and San Luis Rey Band of Mission Indians, a non-federally recognized Indian group, that this notice has been published.

Dated: September 12, 2008
Sherry Hutt,
Manager, National NAGPRA Program.

[FR Doc. E8-23690 Filed 10-6-08; 8:45 am]

BILLING CODE 4312-50-S